DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Evaluation of the Frontier Community Health Care Network Coordination Grant

OMB No. 0915-xxxx—NEW.

Abstract: In fiscal year (FY) 2012, the Office of Rural Health Policy (ORHP) funded an evaluation of the Frontier Community Health Care Network Coordination (FCHCNC) grant. This 3-year grant program awarded to the Montana Department of Public Health and Human Services focuses on a community-based, client-centered clinical service coordination and health promotion model. The program will be coordinated by a clinically-trained Care Transitions Coordinator (CTC) working with Community Health Workers (CHW) in 11 participating network communities. By developing intervention with clients, the CTC and CHWs will work to improve care transitions and client outcomes by reducing or eliminating avoidable hospitalizations and re-hospitalizations, emergency room (ER) visits, and nursing home placements.

The program will be subject to a 3-year independent evaluation. As part of this 3-year evaluation, HRSA will be collecting qualitative and quantitative information. To support the qualitative analysis, HRSA will conduct site visits and telephonic key informant interviews with the critical access hospitals, tertiary hospitals, and the support staff coordinating the program. Data collection will focus on client/family satisfaction, whether goals were achieved in working with clients, and the strengths and challenges associated with implementing the program. Additionally, HRSA will be collecting data quarterly from the grantee sites in order to gain a deeper understanding of the program's implementation. Finally, quantitative data will be gathered for studying the effectiveness of each intervention, specifically identifying differences between pre- and post-intervention health care utilization, hospital readmissions, and other client-specific outcomes. Where data are available, HRSA will assess cost effectiveness of the program.

Need and Proposed Use of the Information

This evaluation will consist of reviewing the implementation and effectiveness of the FCHCNC grant for the 11 participating network communities. The evaluation will allow HRSA to determine the following objectives:

1. Identify the strengths and challenges that grantees and key partners used to implement the FCHCNC grant;

2. Assess the effectiveness of the grantees' implementation of the FCHCNC grant;

3. Determine client satisfaction and whether clients are meeting intervention goals; and

4. Assess health care utilization and cost savings associated with FCHCNC grant participation.

The evaluation will collect data from key stakeholders, grantee sites, and clients using the following methods:

1. In person and telephonic interviews;

2. Grantee data collection forms; and

3. Client satisfaction surveys.

ORHP is seeking approval from OMB for the three methods of data collection. A brief description of the data collection activities for which OMB approval is being sought is included below:

In Person and Telephonic Key Informant Interviews: Interviews will be conducted with hospital administrators, providers, the care transitions coordinator, community health workers, and clients participating in the program. The interview guides consist of open-ended questions designed to gather information on successes and challenges associated with the program design and implementation. Additionally, the interviews seek to gather information about the CHW training, client enrollment, intervention design for participants, and satisfaction with the program.

Grantee Data Collection: The data collected from each grantee site will provide details on program/client activity on a quarterly basis. The data will include the number of clients with whom the CHWs are involved, the intervention goals and objectives for each participant, resources used as part of the interventions, and the time it took for achievement of the goals. To provide insight on the effectiveness of the grantees' recruitment, grantee data collection will also provide information on CHWs' efforts to enroll clients and the successes and failures that they have with various recruitment methods.

Client Satisfaction Survey: The data collected as part of the client satisfaction survey will include data on types of health services used during their intervention and overall satisfaction with the FCHCNC program.

CMS Utilization and Cost Data: The data accessed for the FCHCNC program will include overall utilization of health services by clients enrolled in the program (including number of hospitalizations) and the cost of the associated care received by the clients enrolled in the program.

Likely Respondents: Hospital Administrators, primary care providers, community health workers, the care transition coordinator, staff from the Montana Department of Public Health and Human Services, staff from Montana Health Education and Research Foundation, and CHW clients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Client satisfaction survey | 85 | 1 | 85 | .16 | 13.6
Hospital Administrator Interview Protocol | 22 | 1 | 22 | .5 | 11.0
Primary care Provider Interview Protocol | 22 | 1 | 22 | .5 | 11.0
Community Health Worker Interview Protocol | 11 | 1 | 11 | 1.0 | 11.0
Care Transitions Coordinator Interview Protocol | 1 | 1 | 1 | 1.0 | 1.0
Grantee Interview Protocol | 2 | 1 | 2 | .5 | 1.0
Client Interview/Focus Group Protocol | 22 | 1 | 22 | .5 | 11.0
Grantee Data Collection Form | 11 | 4 | 44 | 4 | 176.0
Total | 176 |  |  |  | 231.6

Dated: December 9, 2013.
Bahar Niakan,
Director, Division of Policy and Information Coordination.

[FR Doc. 2013-29944 Filed 12-16-13; 8:45 am]

BILLING CODE 4165-15-P